FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011284-060.

Title: Ocean Carrier Equipment Management Association Agreement.

Parties: APL Co. Pte. Ltd.; American President Lines, Ltd.; A.P. Moller-Maersk A/S; CMA CGM, S.A.; Companhia Libra de Navegacao; Compania Sudamericana de Vapores, S.A.; COSCO Containerlines Company Limited; Crowley Maritime Corporation; Evergreen Marine Corp. (Taiwan) Ltd.; Hamburg-Süd; Hapag-Lloyd AG; Hapag-Lloyd USA LLC; Hanjin Shipping Co., Ltd.; Hyundai Merchant Marine Co. Ltd.; Kawasaki Kisen Kaisha, Ltd.; Mitsui O.S.K. Lines Ltd.; Montemar Maritima S.A.; Nippon Yusen Kaisha Line; Norasia Container Lines Limited; Orient Overseas Container Line Limited; and Yang Ming Marine Transport Corp.

Filing Party: Jeffrey F. Lawrence, Esq.; and Donald J. Kassilke, Esq.; Sher & Blackwell LLP; 1850 M Street, NW., Suite 900; Washington, DC 20036.

Synopsis: The amendment removes Australia-New Zealand Direct Line, Contship Containerlines, and CP Ships (USA) LLC as parties to the agreement; adds Companhia Libra de Navegacao, Montemar Maritima S.A., and Norasia Container Lines Limited as parties; reflects Hapag-Lloyd's new corporate names; and updates addresses for Hamburg-Süd and Yang Ming.

Agreement No.: 011922-001.

Title: TNWA/GA Cooperative Working Agreement.

Parties: APL Co. Pte. Ltd.; American President Lines, Ltd.; Hyundai Merchant Marine Co., Ltd.; Mitsui O.S.K. Lines, Ltd.; Hapag-Lloyd AG; Nippon Yusen Kaisha; Orient Overseas Container Line Limited; Orient Overseas Container Line Inc.; and Orient Overseas Container Line (Europe) Limited.

Filing Party: Wayne R. Rohde, Esq.; Sher & Blackwell LLP; 1850 M Street NW.; Suite 900; Washington, DC 20036.

Synopsis: The amendment updates Hapag-Lloyd's corporate name.

Agreement No.: 011959-002.

Title: Zim/ESL Agreement.

Parties: Zim Integrated Shipping Services, Ltd. and Emirates Shipping Line FZE.

Filing Party: Wayne R. Rohde, Esq.; Sher & Blackwell LLP; 1850 M Street, NW.; Suite 900; Washington, DC 20036.

Synopsis: The amendment expands the scope of the agreement to the East Coast of the United States, reduces ESL's allocation of space on the service presently operated under the agreement, and provides ESL with space on Zim's U.S. East Coast service in the agreement trade.

Agreement No.: 011976.

Title: CSAV/NYK Chile Space Charter Agreement.

Parties: Compania Sud Americana de Vapores S.A. and Nippon Yusen Kaisha.

Filing Party: Wayne R. Rohde, Esq.; Sher & Blackwell LLP; 1850 M Street, NW., Suite 900; Washington, DC 20036.

Synopsis: The agreement would authorize CSAV to charter space to NYK for the carriage of motor vehicles from Baltimore to ports in Chile.

Agreement No.: 011977.

Title: COSCON/WHL Space Charter Agreement.

Parties: COSCO Container Lines Company, Limited and Wan Hai Lines Ltd.

Filing Party: Robert B. Yoshitomi, Esq.; Nixon Peabody LLP; 2040 Main Street, Suite 850; Irvine, CA 92614.

Synopsis: The agreement authorizes COSCO to charter space to Wan Hai in the trade between the U.S. West Coast, on the one hand, and China and Japan, on the other.

Dated: October 27, 2006.
Bryant L. VanBrakle,
Secretary.

[FR Doc. E6-18386 Filed 10-31-06; 8:45 am]

BILLING CODE 6730-01-P